ENVIRONMENTAL PROTECTION AGENCY

[ER-FRL-6616-7]

Environmental Impact Statements; Notice of Availability

Responsible Agency: Office of Federal Activities, General Information (202) 564-7167 or http://www.epa.gov/oeca/ofa

Weekly receipt of Environmental Impact Statements

Filed March 19, 2001 Through March 23, 2001

Pursuant to 40 CFR 1506.9.

EIS No. 010094, Draft EIS, NRS, WV, Upper Tygart Valley River Watershed Plan, Water Supply Project, Approval and Funding, Randolph and Pocahontas Counties, WV, Comment Period Ends: May 14, 2001, Contact: William J. Hartman (304) 284-7545.

EIS No. 010095, Draft EIS, AFS, CO, Nucla-Telluride Transmission Line Project, Permit Approval and Funding for Construction and Operation of a 115 kV Transmission Line between the Nucla Substation in Montrose County and either the Tulluride or Sunshine Substations in Miguel County, CO, Comment Period Ends: May 14, 2001, Contact: Steve Wells (970) 327-4261.

EIS No. 010096, Final EIS, FHW, VA, Hampton Roads Crossing Study, Improvements to Relieve Congestion at the I-64 Hampton Roads Bridge Tunnel, I-64 & I-664 Interchange, Hampton; I-64 and I-564 Interchange, Norfolk; VA-164 near Coast Guard Boulevard, Portsmouth; & I-66, I-264 and I-664 Interchange, Chesapeake, Funding, Coast Guard/COE Permits, Isle of Wight & York Cos. VA, Wait Period Ends: April 30, 2001, Contact: Ed Sunda (804) 775-3338.

EIS No. 010097, Draft Supplement, DOE, SC, Savannah River Site Salt Processing Alternatives, Evaluation for Separating High-Activity and Low-Activity Fractions of Liquid High-Level Radio-active Waste and Potential Environmental Impacts of Alternatives to the In-Tank-Precipitation Process (ITP), Aiken and Barnwell Counties, SC, Comment Period Ends: May 14, 2001, Contact: Andrew R. Grainger (800) 881-7292.

Dated: March 27, 2001.
Joseph C. Montgomery,
Director, NEPA Compliance Division, Office of Federal Activities.

[FR Doc. 01-7946 Filed 3-29-01; 8:45 am]

BILLING CODE 6560-50-P